DEPARTMENT OF ENERGY

Federal Energy Regulatory Commission

[Docket Nos. RP00-326-003, RP00-605-003, and RP02-39-004]

Columbia Gulf Transmission Company; Notice of Compliance Filing

November 1, 2002.

Take notice that on October 28, 2002, Columbia Gulf Transmission Company (Columbia Gulf) tendered for filing as part of its FERC Gas Tariff, Second Revised Volume No. 1, revised tariff sheets, listed in Appendix A, to the filing.

Columbia Gulf states that this filing is made to revise various tariff sheets filed in Docket No. RP00-326-000 on July 31, 2001 pursuant to Order No. 637 and Order No. 637-A in compliance with the Commission's September 26, 2002 Order (100 FERC ¶ 61,344).

Columbia Gulf states that copies of its filing have been mailed to all parties on the official service list of this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Linwood A. Watson, Jr.,
Deputy Secretary.

[FR Doc. 02-28582 Filed 11-8-02; 8:45 am]

BILLING CODE 6717-01-P